DEPARTMENT OF TRANSPORTATION

Federal Aviation Administration

Notice of Intent To Rule on Request To Release Airport Property at the Seattle-Tacoma International Airport, Seattle, WA

AGENCY: Federal Aviation Administration (FAA), DOT.

ACTION: Notice of request to release airport property.

SUMMARY: The FAA proposes to rule and invite public comment on the release of land at the Seattle-Tacoma International Airport under the provisions of section 125 of the Wendell H. Ford Aviation Investment Reform Act for the 21st Century (AIR 21).

DATES: Comments must be received on or before August 6, 2009.

ADDRESSES: Comments on this application may be mailed or delivered to the FAA at the following address: Ms. Carol Suomi, Manager, Federal Aviation Administration, Northwest Mountain Region, Airports Division, Seattle Airports District Office, 1601 Lind Ave., SW., Suite 250, Renton, Washington 98057.

In addition, one copy of any comments submitted to the FAA must be mailed or delivered to Mr. Allan Royal, Manager, Port of Seattle Real Estate Development, P.O. Box 68727, Seattle, Washington, 98168.

FOR FURTHER INFORMATION CONTACT: Mr. Roman Pinon, Project Manager, Federal Aviation Administration, Northwest Mountain Region, Airports Division, Seattle Airports District Office, 1601 Lind Avenue, SW., Suite 250, Renton, Washington 98057.

The request to release property may be reviewed in person at this same location.

SUPPLEMENTARY INFORMATION: The FAA invites public comment on the request to release property at the Seattle-Tacoma International Airport under the provisions of the AIR 21.

On June 17, 2009, the FAA determined that the request to release property at the Seattle Tacoma International Airport submitted by the Port of Seattle, Washington met the procedural requirements of the Federal Aviation Regulations, part 155. The FAA may approve the request, in whole or in part, no later than August 6, 2009.

The following is a brief overview of the request:

The Seattle-Tacoma International Airport requests the release of 495,653 square feet of non-aeronautical airport property to Port of Seattle, Washington. The current property is vacant and has no ability to have an aviation use associated with the land. The purpose of this release is to allow the Port to sell the subject land that no longer serves any aeronautical purpose at the airport to the City of Des Moines, WA for use as a jail site.

Any person may inspect the request by appointment at the FAA office listed above under FOR FURTHER INFORMATION CONTACT.

In addition, any person may, inspect the application, notice and other documents germane to the application in person at the Seattle-Tacoma International Airport, 17801 International Blvd., Seattle, Washington, 98188.

Issued in Renton, Washington on July 6, 2009.
Carol Suomi,
Manager, Seattle Airports District Office.

[FR Doc. E9-19055 Filed 8-11-09; 8:45 am]

BILLING CODE 4910-13-M